DEPARTMENT OF THE TREASURY

Fiscal Service

Revision of the Treasury Current Value of Funds Rate

AGENCY: Financial Management Service, Fiscal Service, Treasury.

ACTION: Notice of revised rate for use in Federal debt collection and for discount and rebate evaluation.

SUMMARY: Pursuant to section 11 of the Debt Collection Act of 1982, as amended, (31 U.S.C. 3717), the Secretary of the Treasury is responsible for computing and publishing the percentage rate to be used in assessing interest charges for outstanding debts on claims owed the Government. Treasury's Cash Management Regulations (I TFM 6-8000) prescribe use of this rate by agencies as a comparison point in evaluating the cost-effectiveness of a cash discount. In addition, 5 CFR 1315.8 of the Prompt Payment rule on “Rebates” requires that this rate be used in determining when agencies should pay purchase card invoices when a rebate is offered by the card issuer. Notice is hereby given that the applicable rate is 3 percent for the period July 1, 2002 through December 31, 2002.

DATES: The rate will be in effect for the period beginning on July 1, 2002, and ending on December 31, 2002.

FOR FURTHER INFORMATION CONTACT: Inquiries should be directed to the Risk Management Division, Financial Management Service, Department of the Treasury, 401 14th Street, SW., Washington, DC 20227 (Telephone: (202) 874-6650).

SUPPLEMENTARY INFORMATION: The rate reflects the current value of funds to the Treasury for use in connection with Federal Cash Management systems and is based on investment rates set for purposes of the Public Moneys Investments Act, Pub. L. 95-147, 91 Stat. 1227. The rate is computed each year by averaging Treasury Tax and Loan (TT&L) account investment rates for the 12-month period ending every September 30, rounded to the nearest whole percentage, for applicability effective January 1. The rate is subject to quarterly revisions if the annual average, on a moving average basis, changes by 2 per centum. The rate in effect for the period July 1, 2002 through December 31, 2002 reflects the average investment rate for the 12-month period that ended March 31, 2001.

Dated: April 18, 2002.
Bettsy H. Lane,
Assistant Commissioner, Federal Finance.

[FR Doc. 02-10085 Filed 4-23-02; 8:45 am]

BILLING CODE 4810-35-M